DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of twelve individuals and eight entities whose property and interests in property have been unblocked pursuant to Executive Order 12978 of October 21, 1995, “Blocking Assets and Prohibiting Transactions With Significant Narcotics Traffickers”. In addition, OFAC is publishing an amendment to the identifying information of three individuals previously designated pursuant to Executive Order 12978.

DATES: The unblocking and removal from the list of Specially Designated Nationals and Blocked Persons (“SDN List”) of the twelve individuals and eight entities identified in this notice whose property and interests in property were blocked pursuant to Executive Order 12978 of October 21, 1995, is effective on July 30, 2013.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On July 30, 2013, the Director of OFAC removed from the SDN List the twelve individuals and eight entities listed below, whose property and interests in property were blocked pursuant to the Order:

Individuals

1. FRANCO MUNOZ, Francisco, Calle 10 Bis No. 67A-51, Cali, Colombia; c/o GRAN MUELLE S.A., Buenaventura, Colombia; POB Facatativa, Cundinamarca, Colombia; Cedula No. 03014999 (Colombia); Passport 03014999 (Colombia) (individual) [SDNT].

2. GARCIA VARELA, Luis Fernando, c/o TAURA S.A., Cali, Colombia; Cedula No. 16282923 (Colombia) (individual) [SDNT].

3. GRAJALES LONDONO, Juan Raul, c/o HEBRON S.A., Tulua, Valle, Colombia; c/o INTERNATIONAL FREEZE DRIED S.A., Bogota, Colombia; c/o JOSAFAT S.A., Tulua, Valle, Colombia; c/o SALIM S.A., La Union, Valle, Colombia; c/o CALI@TELE.COM LTDA., Cali, Colombia; c/o CITICAR LTDA., La Union, Valle, Colombia; c/o COMUNICACIONES ABIERTAS CAMARY LTDA., Cali, Colombia; c/o CONFECCIONES LINA MARIA LTDA., La Union, Valle, Colombia; c/o DOXA S.A., La Union, Valle, Colombia; DOB 10 Oct 1986; POB Bogota, Colombia; Cedula No. 11167762 (Colombia) (individual) [SDNT].

4. LOPEZ RODRIGUEZ, Walter, c/o CARMILE INVERSIONES LOPEZ Y CIA. S.C.A., Cali, Colombia; c/o CONSTRUCTORA SANTA TERESITA S.A., Cali, Colombia; c/o INVERSIONES MEDICAS Y QUIRUGICAS ESPECIALIZADAS LTDA., Cali, Colombia; c/o PRODUCTOS ALIMENTICIOS GLACIARES LTDA., Cali, Colombia; c/o UNIVISA S.A., Cali, Colombia; DOB 12 Jul 1954; POB Buga, Valle, Colombia; Cedula No. 19253056 (Colombia); Passport PO66566 (Colombia) (individual) [SDNT].

5. MORALES CASTRILLON, Victor Hugo, c/o TAURA S.A., Cali, Colombia; Cedula No. 16620349 (Colombia) (individual) [SDNT].

6. NARVAEZ PUENTES, James Orlando, c/o AGROGANADERA LA ISABELA S.A., Cali, Colombia; c/o CENTRO COMERCIAL GUSS S.A., Cali, Colombia; c/o CONSTRUCCIONES LA RESERVA S.A., Cali, Colombia; c/o CONSTRUCTORA JUANAMBU S.A., Cali, Colombia; c/o CONSTRUCTORA LOMA LINDA S.A., Cali, Colombia; c/o CONSTRUCTORA UMBRIA S.A., Cali, Colombia; c/o VENECIA INMOBILIARIA QUILICHAO S.A. & CIA S.C.A., Cali, Colombia; Carrera 66 No. 10-36, Cali, Colombia; Carrera 121 No. 13-76, Casa 7, Cali, Colombia; Calle 1 No. 56-109, Casa 33 Seminar, Cali, Colombia; DOB 29 Nov 1959; nationality Colombia; citizen Colombia; Cedula No. 16634261 (Colombia); Passport AK279300 (Colombia); alt. Passport AF366653 (Colombia) (individual) [SDNT].

7. PABON ALVARADO, Gustavo Alberto, c/o INVERSIONES MPS S.A., Bogota, Colombia; c/o PROYECTOS Y SOLUCIONES S.A., Bogota, Colombia; c/o PROYECTOS Y SOLUCIONES INMOBILIARIA LTDA., Bogota, Colombia; c/o GERENCIA DE PROYECTOS Y SOLUCIONES LTDA., Bogota, Colombia; c/o ACUICOLA SANTA CATALINA S.A., Bogota, Colombia; c/o HOTEL LA CASCADA S.A., Girardot, Colombia; c/o FLORIDA SOCCER CLUB S.A., Medellin, Colombia; Avenida 13 No. 100-12 Ofc. 302, Bogota, Colombia; c/o MISION INMOBILIARIA LIMITADA, Bogota, Colombia; DOB 06 May 1955; POB Bogota, Colombia; Cedula No. 79146243 (Colombia) (individual) [SDNT].

8. PERDOMO ZUNIGA, Hugo Ivan, c/o CONSTRUVIDA S.A., Cali, Colombia; DOB 16 Jun 1960; Cedula No. 16669843 (Colombia) (individual) [SDNT].

9. QUIGUA ARIAS, Omar, c/o INCOES LTDA., Cali, Colombia; c/o IMCOMER LTDA., Cali, Colombia; DOB 26 Mar 1949; Cedula No. 6208489 (Colombia) (individual) [SDNT].

10. RAMIREZ BUITRAGO, Luis Eduardo, c/o INCOES LTDA., Cali, Colombia (individual) [SDNT].

11. RAMIREZ SANCHEZ, Alben, c/o INCOES LTDA., Cali, Colombia (individual) [SDNT].

12. SOTO GUTIERREZ, Hernan, c/o INVERSIONES ARIO LTDA, Cali, Colombia; Carrera 24E No. 4-116 Oeste, Cali, Colombia; Cedula No. 6079597 (Colombia) (individual) [SDNT].

Entities

1. CARMILE INVERSIONES LOPEZ Y CIA. S.C.A. (f.k.a. COMERCIALIZADORA CARMILE Y CIA. S.C.A.; a.k.a. ESTACION DE SERVICIO EL OASIS DE PASOANCHO; a.k.a. FOOD MART OASIS), Calle 13 No. 31-42, Cali, Colombia; NIT # 890329543-0 (Colombia) [SDNT].

2. CONSTRUCTORA SANTA TERESITA S.A., Avenida 6 Norte No. 17-92 Of. 411, Cali, Colombia; NIT # 805028212-7 (Colombia) [SDNT].

3. INTERVENTORIA, CONSULTORIA Y ESTUDIOS LIMITADA INGENIEROS ARQUITECTOS (a.k.a. INCOES), Avenida 6N No. 13N-50 of. 1209, Cali, Colombia; NIT # 800144790-0 (Colombia) [SDNT].

4. INVERSIONES MEDICAS Y QUIRUGICAS ESPECIALIZADAS LTDA., Calle 13 No. 31-42, Cali, Colombia; NIT # 800171266-7 (Colombia) [SDNT].

5. MISION INMOBILIARIA LIMITADA, Calle 100 No. 60-04, Oficina 506, Bogota, Colombia; NIT # 900146213-4 (Colombia) [SDNT].

6. PRODUCTOS ALIMENTICIOS GLACIARES LTDA. (f.k.a. FRONTERA REPRESENTACIONES LTDA.), Carrera 84 No. 15-26, Cali, Colombia; NIT # 805027303-4 (Colombia) [SDNT].

7. PROYECTOS J.A.M. LTDA. Y CIA. S. EN C., Calle 74 No. 53-23 of. 401, Barranquilla, Colombia; Calle 74 No. 53-23 L-503, Barranquilla, Colombia; Carrera 53 No. 74-16 of. 401, Barranquilla, Colombia; Carrera 53 No. 74-16, Barranquilla, Colombia; NIT # 800243483-9 (Colombia) [SDNT].

8. PROYECTOS J.A.M. LTDA., Carrera 53 No. 74-16, Barranquilla, Colombia; Carrera 54 No. 72-147, Barranquilla, Colombia; Calle 77 No. 65-37 L-6, Barranquilla, Colombia; NIT # 800234529-0 (Colombia) [SDNT].

In addition, OFAC amended the identifying information for the following three individuals previously designated pursuant to Executive Order 12978:

1. IBANEZ LOPEZ, Raul Alberto, c/o INCOES LTDA., Cali, Colombia; c/o AGROPECUARIA LA ROBLEDA S.A., Cali, Colombia; c/o GANADERIAS DEL VALLE S.A., Cali, Colombia; c/o INMOBILIARIA U.M.V. S.A., Cali, Colombia; c/o DISTRIBUIDORA DE ELEMENTOS PARA LA CONSTRUCCION S.A., Cali, Colombia; DOB 11 Apr 1960; Cedula No. 16640123 (Colombia) (individual) [SDNT].

2. RIZO MORENO, Jorge Luis, c/o SERVICIOS INMOBILIARIOS LTDA., Cali, Colombia; c/o CONSTRUCTORA DIMISA LTDA., Cali, Colombia; c/o INDUSTRIA AVICOLA PALMASECA S.A., Cali, Colombia; c/o INVERSIONES EL PENON S.A., Cali, Colombia; c/o CONSTRUVIDA S.A., Cali, Colombia; Transversal 11, Diagonal 23-30 apt. 304A, Cali, Colombia; c/o SERVIAUTOS UNO A 1A LIMITADA, Cali, Colombia; c/o IMPORTADORA Y COMERCIALIZADORA LTDA., Cali, Colombia; c/o INTERVENTORIA, CONSULTORIA Y ESTUDIOS LIMITADA INGENIEROS ARQUITECTOS, Cali, Colombia; c/o PROCESADORA DE POLLOS SUPERIOR S.A., Palmira, Colombia; DOB 17 May 1960; Cedula No. 16646582 (Colombia) (individual) [SDNT].

3. SAAVEDRA ARCE, Rodrigo Eugenio, CONSTRUCTORA SANTA TERESITA S.A., Cali, Colombia; c/o BOSQUE DE SANTA TERESITA LTDA., Cali, Colombia; c/o SAAVEDRA Y CIA. S. EN C., Cali, Colombia; DOB 30 Oct 1942; Cedula No. 16236683 (Colombia); Passport AF637666 (Colombia) (individual) [SDNT].

The listings for the three individuals now appear as follows:

1. IBANEZ LOPEZ, Raul Alberto; DOB 11 Apr 1960; Cedula No. 16640123 (Colombia) (individual) [SDNT] (Linked To: AGROPECUARIA LA ROBLEDA S.A.; Linked To: GANADERIAS DEL VALLE S.A.; Linked To: INMOBILIARIA U.M.V. S.A.; Linked To: DISTRIBUIDORA DE ELEMENTOS PARA LA CONSTRUCCION S.A.).

2. RIZO MORENO, Jorge Luis, Transversal 11, Diagonal 23-30 apt. 304A, Cali, Colombia; DOB 17 May 1960; Cedula No. 16646582 (Colombia) (individual) [SDNT] (Linked To: SERVICIOS INMOBILIARIOS LTDA.; Linked To: SERVIAUTOS UNO A 1A LIMITADA; Linked To: INVERSIONES EL PENON S.A.; Linked To: CONSTRUVIDA S.A.; Linked To: IMPORTADORA Y COMERCIALIZADORA LTDA.; Linked To: CONSTRUCTORA DIMISA LTDA.; Linked To: PROCESADORA DE POLLOS SUPERIOR S.A.; Linked To: CRIADERO DE POLLOS EL ROSAL S.A.).

3. SAAVEDRA ARCE, Rodrigo Eugenio; DOB 30 Oct 1942; Cedula No. 16236683 (Colombia); Passport AF637666 (Colombia) (individual) [SDNT] (Linked To: BOSQUE DE SANTA TERESITA LTDA.; Linked To: SAAVEDRA Y CIA. S. EN C.).

Dated: July 30, 2013.
Adam J. Szubin,
Director, Office of Foreign Assets Control.

[FR Doc. 2013-18803 Filed 8-2-13; 8:45 am]

BILLING CODE 4810-AL-P